DEPARTMENT OF ENERGY

Federal Energy Regulatory Commission

[Docket Nos. ER96-719-000; EL04-106-000]

MidAmerican Energy Company; Notice of Initation of Investigation and Refund Effective Date

July 14, 2004.

On July 12, 2004, the Commission issued an order in the above-referenced dockets initiating an investigation in Docket No. EL04-106-000 under section 206 of the Federal Power Act to determine whether, absent the condition to submit market-based rate reviews every three years, rates charged by MidAmerican Energy Company pursuant to its market-based rate authority remain just and reasonable, and to determine whether MidAmerican continues to satisfy the Commission's four part test. 108 FERC ¶ 61,043.

The refund effective date in Docket No. EL04-106-000, established pursuant to section 206(b) of the Federal Power Act, will be 60 days following publication of this notice in the Federal Register.

Magalie R. Salas,
Secretary.

[FR Doc. E4-2023 Filed 9-1-04; 8:45 am]

BILLING CODE 6717-01-P